ENVIRONMENTAL PROTECTION AGENCY

[FRL -7229-3]

Draft Action Plan for the Development of a Framework for Metals Assessment and Guidance for Characterizing and Ranking Metals (External Review Draft)

AGENCY: Environmental Protection Agency (EPA).

ACTION: Notice of a draft for public review and comment.

SUMMARY: This notice announces the availability of the External Review Draft of a document, Draft Action Plan for the Development of a Framework for Metals Assessment and Guidance for Characterizing and Ranking Metals, EPA/630/P-02/003A, prepared by a cross-agency workgroup under the auspices of the Science Policy Council. This External Review Draft of the Project Work Plan will be reviewed by the EPA's Science Advisory Board in an advisory capacity. The EPA also is announcing a public comment period for the draft document. EPA will consider the SAB's advice and public comment submissions in revising the Draft Action Plan. The plan may be modified and amended from time to time, as necessary, to reflect actual project requirements and progress. Information on the date and location of the SAB public review meeting (anticipated mid-summer 2002) will be published in a future Federal Register notice.

DATES: Comments may be submitted through the day of the SAB Advisory meeting, however in order for the Agency to consider comments in the development of the final charge to the SAB, comments should be received no later than July 2, 2002.

ADDRESSES: Comments may be mailed to the Technical Information Staff (8623D), NCEA-W, U.S. Environmental Protection Agency, 1200 Pennsylvania Avenue, NW., Washington, DC 20460, or delivered to the Technical Information Staff at 808 17th Street, NW., 5th Floor, Washington, DC 20006; telephone: 202-564-3261; facsimile: 202-565-0050. The EPA mail room does not accept courier deliveries. Electronic comments may be e-mailed to: metals.assessment@epa.gov.

The document is available primarily via the Risk Assessment Forum Publications Page at http://www.epa.gov/ncea/raf/rafpub.htm. A limited number of paper copies will be made available upon individual request to the Technical Information Staff. Please provide the document's title, Draft Action Plan for the Development of a Framework for Metals Assessment and Guidance for Characterizing and Ranking Metals, EPA/630/P-02/EPA/630/P-02/003A, as well as your name and address to properly process your request.

FOR FURTHER INFORMATION CONTACT: Dr. William P. Wood, Risk Assessment Forum, National Center for Environmental Assessment (8601-D), U.S. Environmental Protection Agency, Washington, DC 20460; telephone: 202 564-3361; fax: 202 565-0062; e-mail: risk.forum@epa.gov.

SUPPLEMENTARY INFORMATION: Many EPA programs are faced with deciding whether and how to regulate toxic metals. These decisions range from setting regulatory standards for environmental releases, to establishing safe levels in different environmental media, to setting priorities for regulatory or voluntary efforts. A basic input to the decision-making process for most EPA programs is an assessment of the potential hazards and risks posed by the metal(s) to human health and the environment. Hazard and risk assessments of metals and metal compounds raise issues not generally encountered with organic chemicals. In recognition of the unique assessment issues raised by metals and the complexity of addressing these issues consistently across the Agency's various programs, the Agency's Science Policy Council tasked an Agency work group to devise an Action Plan. The goal of this Action Plan is to establish a process for developing guidance that will assure (1) a consistent application of scientific principles for assessing hazard and risk for metals, (2) state-of-the-science application of methods and data, (3) A transparent process (i.e. articulating assumptions and uncertainties), and (4) the flexibility to address program-specific issues. The Action Plan includes brief descriptions of the Agency's metals assessment activities, and identifies critical assessment issues that need to be addressed by the cross-agency guidance.

Dated: June 5, 2002.
George W. Alapas,
Acting Director, National Center for Environmental Assessment.

[FR Doc. 02-14632 Filed 6-10-02; 8:45 am]

BILLING CODE 6560-50-U